DEPARTMENT OF ENERGY

Federal Energy Regulatory Commission

[Docket No. RP04-176-000]

Northwest Pipeline Corporation; Notice of Extension of Time

July 8, 2004.

On June 25, 2004, Northwest Pipeline Corporation (Northwest) filed a petition for temporary limited tariff waiver, seeking an extension of time to defer Northwest's tariff provisions to implement the revised Forms of Transportation Service Agreements that were accepted in the Commission's Order issued July 1, 2004, in the above-docketed proceeding. The petition states that Northwest cannot implement the revised Forms of Transportation Service Agreements until corresponding programming modifications are made to its Northwest Passage system. The petition also states that Northwest will continue to use the previously effective Forms of Transportation Service Agreements for transactions on Northwest Passage.

Upon consideration, notice is hereby given that an extension of time for implementation of the revised Forms of Transportation Service Agreements for Rate Schedules TF-1, TF-2, and TI-1 is granted to and including October 1, 2004, as requested by Northwest.

Magalie R. Salas,
Secretary.

[FR Doc. E4-1535 Filed 7-13-04; 8:45 am]

BILLING CODE 6717-01-P